DEPARTMENT OF DEFENSE

Department of the Navy

Meeting of the Chief of Naval Operations (CNO) Executive Panel

AGENCY: Department of the Navy, DoD.

ACTION: Notice of closed meeting.

SUMMARY: The CNO Executive Panel will report on the findings and recommendations of the Innovation and Technology Transition Subcommittee to the CNO. The meeting will consist of discussions of the U.S. Navy's Innovation and Technology Transition strategies and policies.

DATES: The meeting will be held on September 25, 2006, from 9 a.m. to 10 a.m.

ADDRESSES: The meeting will be held in the CNOs Room 4E662, 2000 Navy Pentagon, Washington, DC 20350.

FOR FURTHER INFORMATION CONTACT: Ms. Gia Harrigan, CNO Executive Panel, 4825 Mark Center Drive, Alexandria, VA 22311, 703-681-4907.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Dated: July 27, 2006.
M.A. Harvison,
Lieutenant Commander, Judge Advocate General's Corps, U.S. Navy, Federal Register Liaison Officer.

[FR Doc. E6-12602 Filed 8-3-06; 8:45 am]

BILLING CODE 3810-FF-P